DEPARTMENT OF COMMERCE

International Trade Administration

[A-570-836]

Glycine From the People's Republic of China: Final Results of Antidumping Duty Administrative Review; 2014-2015

AGENCY: Enforcement and Compliance, International Trade Administration, Department of Commerce.

SUMMARY: On April 15, 2016, the Department of Commerce (the Department) published the preliminary results of the administrative review of the antidumping duty order on glycine from the People's Republic of China (PRC).¹ The review covers five companies, Baoding Mantong Fine Chemistry Co., Ltd. (Baoding Mantong), Kumar Industries (Kumar), Nutracare International (Nutracare), Ravi Industries (Ravi), and Rudraa International (Rudraa). The period of review (POR) is March 1, 2014, through February 28, 2015. As a result of our analysis of the comments and information received, these final results do not differ from the Preliminary Results.

¹ See Glycine From the People's Republic of China: Preliminary Results of Antidumping Duty Administrative Review; 2014-2015, 81 FR 22212 (April 15, 2016) (Preliminary Results).

DATES: Effective October 20, 2016.

FOR FURTHER INFORMATION CONTACT: Dena Crossland or Brian Davis, AD/CVD Operations, Office VI, Enforcement and Compliance, International Trade Administration, U.S. Department of Commerce, 1401 Constitution Avenue NW., Washington, DC 20230; telephone: (202) 482-3362 or (202) 482-7924, respectively.

SUPPLEMENTARY INFORMATION:

Background

On April 15, 2016, the Department published the Preliminary Results. In accordance with 19 CFR 351.309(c)(1)(ii), we invited parties to comment on our Preliminary Results.² On May 16, 2016, GEO submitted a case brief and requested a hearing.³ On August 10, 2016, the Department issued a memorandum extending the time period for issuing the final results of this administrative review from August 15, 2016, to October 12, 2016.⁴ On September 21, 2016, GEO withdrew its request for a public hearing. As no other party had requested a hearing, no public hearing was held. The Department conducted on-site verifications of Kumar and Salvi Chemical Industries Ltd., Nutracare's affiliate and glycine producer, from August 1, 2016, through August 5, 2016.⁵ On September 2, 2016, GEO and respondents submitted post-verification comments.⁶ On September 7, 2016, GEO and respondents submitted post-verification rebuttal comments.⁷

² See Preliminary Results at 22212-22213.

³ See Letter to the Department of Commerce from GEO Specialty Chemicals, Inc. regarding “Glycine from the People's Republic of China: GEO Specialty Chemicals' Case Brief,” dated May 16, 2016.

⁴ See Memorandum to Christian Marsh, Deputy Assistant Secretary for Antidumping and Countervailing Duty Operations, from Madeline Heeren, International Trade Compliance Analyst, Antidumping and Countervailing Duty Operations, Office VI, through Scot Fullerton, Antidumping and Countervailing Duty Operations, Office VI, on the subject of “Glycine from the People's Republic of China: Extension of Deadline for Final Results of Antidumping; 2014/2015,” dated August 10, 2016.

⁵ See Memorandum to The File from Marcus A. Kraker, Import Policy Analyst, Office of Deputy Assistant Secretary for Policy & Negotiations, and Elisabeth Urfer, Senior International Trade Compliance Analyst, Customs Liaison Unit, through Brian Davis, Program Manager, Antidumping and Countervailing Duty Operations, Office VI, on the subject of “Verification of the Questionnaire Responses of Kumar Industries in the Antidumping Duty Review of Glycine from the People's Republic of China,” dated August 19, 2016, and Memorandum to The File from Marcus A. Kraker, Import Policy Analyst, Office of Deputy Assistant Secretary for Policy & Negotiations, and Elisabeth Urfer, Senior International Trade Compliance Analyst, Customs Liaison Unit, through Brian Davis, Program Manager, Antidumping and Countervailing Duty Operations, Office VI, on the subject of “Verification of the Questionnaire Responses of Salvi Chemical Industries Ltd. in the Antidumping Duty Review of Glycine from the People's Republic of China,” dated August 19, 2016.

⁶ See Letter to the Department of Commerce from GEO Specialty Chemicals, Inc. regarding “Glycine from the People's Republic of China: Comments on Verification Reports,” dated September 2, 2016, and Letter to the Department of Commerce from Nutracare International, Ravi Industries, Kumar Industries, and Rudraa International regarding “Glycine from the People's Republic of China: Comments on the Preliminary Determination,” dated September 2, 2016. In its September 2, 2016, letter, Nutracare, Kumar, Ravi, and Rudraa alleged that GEO submitted untimely, new factual information in its post-verification comments. On September 12, 2016, GEO, submitted a letter in response to respondents' new factual information allegation. We have rejected GEO's submission and requested that they resubmit their comments without the new factual information. GEO resubmitted their comments on October 7, 2016 (see Letter to the Department of Commerce from GEO Specialty Chemicals, Inc. regarding, “Glycine from the People's Republic of China: Removal of Information from September 2, 2016 and September 7, 2016 Submissions,” dated October 7, 2016).

⁷ See Letter to the Department of Commerce from GEO Specialty Chemicals, Inc. regarding “Glycine from the People's Republic of China: GEO's Rebuttal to the Preliminary Determination and Verification Report Comments of Nutracare, Ravi, Kumar and Rudraa,” dated September 7, 2016, and Letter to the Department of Commerce from Nutracare International, Ravi Industries, Kumar Industries, and Rudraa International regarding “Glycine from the People's Republic of China: Rebuttal Comments to Petitioner's Case Brief,” dated September 7, 2016.

Scope of the Order

The product covered by the antidumping duty order is glycine, which is a free-flowing crystalline material, like salt or sugar.⁸ The subject merchandise is currently classifiable under the Harmonized Tariff Schedule of the United States (HTSUS) subheading 2922.49.4020. The HTSUS subheading is provided for convenience and customs purposes only; the written product description of the scope of the order is dispositive.⁹

⁸ See “Issues and Decision Memorandum for the Preliminary Results of Antidumping Duty Administrative Review: Glycine from the People's Republic of China; 2014-2015” from Christian Marsh, Deputy Assistant Secretary for Antidumping and Countervailing Duty Operations, to Ronald K. Lorentzen, Acting Assistant Secretary for Enforcement and Compliance, dated concurrently with this notice (Issues and Decision Memorandum), for a complete description of the scope of the order.

⁹ See Glycine from the People's Republic of China: Antidumping Duty Order, 60 FR 16116 (March 29, 1995).

Analysis of Comments Received

All issues raised in the case and rebuttal briefs by parties to this administrative review are addressed in the Issues and Decision Memorandum.¹⁰ A list of the issues that parties raised and to which we responded is attached to this notice as an Appendix. The Issues and Decision Memorandum is a public document and is on-file electronically via ACCESS. ACCESS is available to registered users at http://access.trade.gov and in the Central Records Unit, Room B8024 of the main Department of Commerce building. In addition, a complete version of the Issues and Decision Memorandum can be accessed directly on the Internet at http://enforcement.ita.doc.gov/frn/index.html. The signed Issues and Decision Memorandum and the electronic version of the Issues and Decision Memorandum are identical in content.

¹⁰ Id.

Final Results of the Review

Based on a review of the record and comments received from interested parties regarding our Preliminary Results, we determine that that Baoding Mantong, Kumar, Nutracare, Ravi, and Rudraa did not have reviewable transactions of subject merchandise during the POR.

Duty Assessment

The Department shall determine and U.S. Customs and Border Protection (CBP) shall assess antidumping duties on all appropriate entries. We intend to issue assessment instructions directly to CBP 15 days after publication of the final results of this review. Given that the Department continues to determine that the exporters under review had no shipments of the subject merchandise, any suspended entries that entered under the exporter's case number (i.e., at that exporter's rate) will be liquidated at the PRC-wide rate, in accordance with our practice.¹¹

¹¹ See Non-Market Economy Antidumping Proceedings: Assessment of Antidumping Duties, 76 FR 65694 (October 23, 2011).

Cash Deposit Requirements

The following cash deposit requirements will be effective upon publication of this notice for all shipments of subject merchandise entered, or withdrawn from warehouse, for consumption on or after the publication of these final results, as provided by section 751(a)(2)(C) of the Act: (1) For Baoding Mantong, Nutracare International, Ravi Industries, Kumar Industries, and Rudraa International, which all claimed no shipments, the cash deposit rate will remain unchanged from rates assigned to these companies in the most recently completed reviews of these companies; (2) for previously investigated or reviewed PRC and non-PRC exporters who are not under review in this segment of the proceeding but who have separate rates, the cash deposit rate will continue to be the exporter-specific rate published for the most recent period; (3) for all PRC exporters of subject merchandise that have not been found to be entitled to a separate rate, the cash deposit rate will be the PRC-wide rate of 453.79 percent; and (4) for all non-PRC exporters of subject merchandise which have not received their own rate, the cash deposit rate will be the rate applicable to the PRC exporter(s) that supplied the non-PRC exporter. These cash deposit requirements, when imposed, shall remain in effect until further notice.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: October 12, 2016.
Paul Piquado,
Assistant Secretary for Enforcement and Compliance.

Appendix

List of Topics Discussed in the Final Issues and Decision Memorandum

I. Summary

II. List of Issues

III. Background

IV. Scope of the Order

V. Discussion of Interested Party Comments

A. Kumar-Specific Issue

Comment 1: Whether Kumar, Ravi, or Rudraa Had Shipments of Subject Merchandise During the Period of Review

B. Salvi/Nutracare-Specific Issue

Comment 2: Whether Nutracare/Salvi Had Shipments of Subject Merchandise During the Period of Review

VI. Recommendation

[FR Doc. 2016-25430 Filed 10-19-16; 8:45 am]

BILLING CODE 3510-DS-P